DEPARTMENT OF DEFENSE

Office of the Secretary

[Docket ID: DoD-2013-OS-0229]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by March 3, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense (Personnel and Readiness) (Military Community and Family Policy) Office of Community Support for Military Families with Special Needs, ATTN: Isabel Hodge, 1525 Wilson Blvd., Suite 225, Arlington, Virginia 22209 or call at (703) 588-0879.

SUPPLEMENTARY INFORMATION: Title, Associated Form, and OMB Control Number: Exceptional Family Member Program, DD Form 2792, Family Member Medical Summary, and DD Form 2792-1, Special Education/Early Intervention Summary. OMB Control Number 0704-0411.

Needs and Uses: This information collection requirement is necessary to screen members of military families to determine if they have special medical (DD Form 2792) and/or educational (DD Form 2792-1) conditions so that these conditions can be taken into consideration when the Service member is being assigned to a new location with his/her family. The information is used by the personnel system to identify special considerations for future assignments. Local and state school and early intervention personnel complete DD Form 2792-1 for children requiring special educational services. The DD Form 2792 and DD Form 2792-1 are also used by TRICARE Managed Care Support Contractors to support a family member's application for further entitlements, and other Service-specific programs that require registration in the Exceptional Family Member Program. The DD Form 2792 and DD Form 2792-1 associated with this information collection, may be voluntarily submitted by a perspective civilian employee to the civilian personnel office to identify family members who have special needs in order to advise the civilian employee of the availability of services in the location where they will be potentially employed. The DD Form 2792-1 must be completed if the civilian employee intends to enroll his or her child in a school funded by the DoD.

Affected Public: Individuals or households; State and local education personnel.

Annual Burden Hours: 20,050.

Number of Respondents: 44,555.

Responses per Respondent: 1.

Average Burden per Response: .45 hours (27 minutes).

Frequency: Tri-annually.

The Military Departments of the Department of Defense screen all family members prior to a Service member being assigned to an overseas location and to some assignments in the United States. DD Form 2792, Family Member Medical Summary, and/or DD Form 2792-1, Special Education/Early Intervention Summary, will be completed for family members who have been identified with a special medical and/or educational need to document the medical and/or educational needs and service requirements. Their needs will be matched to the resources available at the overseas location to determine the feasibility of receiving appropriate services in that location. The information is used by the Military Service's personnel offices for purposes of assignment only and to advise the civilian employee of the availability of the needed services. The DD Form 2792 and DD Form 2792-1 are also used by TRICARE Managed Care Support Contractors to support a family member's application for further entitlements, and other Service-specific programs that require registration in the Exceptional Family Member Program.

Dated: December 27, 2013.
Aaron Siegel,
Alternate OSD Federal Register Liaison Officer, Department of Defense.

[FR Doc. 2013-31380 Filed 12-31-13; 8:45 am]

BILLING CODE 5001-06-P